DEPARTMENT OF TRANSPORTATION

Federal Aviation Administration

14 CFR Part 39

[Docket No. FAA-2013-0096; Directorate Identifier 2012-NM-143-AD]

RIN 2120-AA64

Airworthiness Directives; Airbus Airplanes

AGENCY: Federal Aviation Administration (FAA), DOT.

ACTION: Notice of Proposed Rulemaking (NPRM).

SUMMARY: We propose to adopt a new airworthiness directive (AD) for certain Airbus Model A318-112, A319-111, A319-112, A319-115, A319-132, and A319-133 airplanes. This proposed AD was prompted by a report that a fastener, which connects the cargo door keel beam foot to the circumferential butt-strap and the section 13-14 lower shell panel, was not installed on airplanes during production. This proposed AD would require inspecting forward fuselage frame 24, stringer 39, right hand, to determine if the fastener is missing; measuring the hole dimensions of the five holes surrounding the missing fastener if necessary; and related investigative and corrective actions if necessary. We are proposing this AD to detect and correct the missing fastener, which could result in reduced structural integrity of the airplane.

DATES: We must receive comments on this proposed AD by April 18, 2013.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this proposed AD, contact Airbus, Airworthiness Office—EAS, 1 Rond Point Maurice Bellonte, 31707 Blagnac Cedex, France; telephone +33 5 61 93 36 96; fax +33 5 61 93 44 51; email account.airworth-eas@airbus.com; Internet http://www.airbus.com. You may review copies of the referenced service information at the FAA, Transport Airplane Directorate, 1601 Lind Avenue SW., Renton, WA. For information on the availability of this material at the FAA, call 425-227-1221.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Sanjay Ralhan, Aerospace Engineer, International Branch, ANM-116, Transport Airplane Directorate, FAA, 1601 Lind Avenue SW., Renton, Washington 98057-3356; telephone (425) 227-1405; fax (425) 227-1149.

SUPPLEMENTARY INFORMATION:

Comments Invited

We invite you to send any written relevant data, views, or arguments about this proposed AD. Send your comments to an address listed under the ADDRESSES section. Include “Docket No. FAA-2013-0096; Directorate Identifier 2012-NM-143-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

The European Aviation Safety Agency (EASA), which is the Technical Agent for the Member States of the European Community, has issued EASA Airworthiness Directive 2012-0132, dated July 19, 2012 (referred to after this as the Mandatory Continuing Airworthiness Information, or “the MCAI”), to correct an unsafe condition for the specified products. The MCAI states:

During a ground inspection of an A319 aeroplane in production, it was discovered that one fastener was missing at stringer (STGR) 39 on the right-hand (RH) side of FR [forward fuselage frame] 24 (Section 13-14 side). The hole of the missing fastener was not drilled. The missing fastener, a 4.8 mm [millimeter] diameter titanium bolt, Part Number (P/N) EN 6114 V3-7, should connect the cargo door keel beam foot to the circumferential butt-strap and the section 13-14 lower shell panel. Further investigations have revealed that the affected fastener has not been installed on a limited number of aeroplanes in production, due to incorrect production instructions.

This condition, if not corrected, could impair the structural integrity of the affected aeroplanes.

* * * * *

The required actions include doing a detailed inspection to determine if the fastener is missing, measuring the hole dimensions of the five holes surrounding the missing fastener if necessary, and related investigative and corrective actions if necessary. The related investigative actions include a rototest inspection of the five holes for cracking. The corrective actions include repairing any holes with diameter values that exceed the specified dimensions, repairing any cracking found, and installing new fasteners. You may obtain further information by examining the MCAI in the AD docket.

Relevant Service Information

Airbus has issued Service Bulletin A320-53-1242, including Appendix 01, dated May 22, 2012. The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Differences Between This Proposed AD and the MCAI or Service Information

Although EASA Airworthiness Directive 2012-0132, dated July 19, 2012, specifies to contact the manufacturer for instructions to repair certain conditions, this proposed AD would require repairing those conditions using a method approved by either the Manager, International Branch, ANM-116, Transport Airplane Directorate, FAA; or EASA (or its delegated agent).

Costs of Compliance

Based on the service information, we estimate that this proposed AD would affect about 3 products of U.S. registry. We also estimate that it would take about 26 work-hours per product to comply with the basic requirements of this proposed AD. The average labor rate is $85 per work-hour. Required parts would cost $1,904 per product. Where the service information lists required parts costs that are covered under warranty, we have assumed that there will be no charge for these parts. As we do not control warranty coverage for affected parties, some parties may incur costs higher than estimated here. Based on these figures, we estimate the cost of the proposed AD on U.S. operators to be up to $12,342, or $4,114 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Airbus: Docket No. FAA-2013-0096; Directorate Identifier 2012-NM-143-AD.

(a) Comments Due Date

We must receive comments by April 18, 2013.

(b) Affected ADs

None.

(c) Applicability

This AD applies to Airbus Model A318-112, A319-111, A319-112, A319-115, A319-132, and A319-133 airplanes; certificated in any category; manufacturer serial numbers 3983, 3985, 3998, 4000, 4004, 4007, 4018, 4020, 4029, 4036, 4038 through 4040 inclusive, 4048, 4052, 4056, 4069, 4071, 4076, 4080, 4087, 4089, 4121, 4125, 4127, 4129, 4132, 4141, 4151, 4163, 4164, 4166, 4169, 4171, 4182, 4192, 4200, 4204, 4211, 4215, 4222, 4227, 4228, 4254, 4256, 4258, 4259, 4262, 4268, 4275, 4282, 4285, 4287, 4301, 4313, 4319, 4327, 4332, and 4336.

(d) Subject

Air Transport Association (ATA) of America Code 53, Fuselage.

(e) Reason

This AD was prompted by a report that a fastener, which connects the cargo door keel beam foot to the circumferential butt-strap and the section 13-14 lower shell panel, was not installed on airplanes during production. We are issuing this AD to detect and correct the missing fastener, which could result in reduced structural integrity of the airplane.

(f) Compliance

You are responsible for having the actions required by this AD performed within the compliance times specified, unless the actions have already been done.

(g) Inspections

At the applicable time specified in table 1 to paragraphs (g) and (h) of this AD: Do a detailed inspection at forward fuselage frame 24, stringer 39, right hand, to determine if the fastener is missing, in accordance with the Accomplishment Instructions of Airbus Service Bulletin A320-53-1242, excluding Appendix 01, dated May 22, 2012.

Table 1 to Paragraphs (g) and (h) of This AD—Compliance Time
Airplane configuration— | Compliance time—
Model A319 airplanes, except manufacturer serial numbers 4151, 4228, and 4319; and Model A318 airplanes, pre-mod 39195, and on which the actions specified in Airbus Service Bulletin A320-00-1219 have not been embodied in service | Before the accumulation of 5,000 total flight cycles since first flight of the airplane, or within 4,300 flight cycles after the effective date of this AD, whichever occurs later.
Model A318 airplanes, post-mod 39195; and Model A318 airplanes on which the actions specified in Airbus Service Bulletin A320-00-1219 have been embodied in service | Before the accumulation of 3,000 total flight cycles since first flight of the airplane, or within 90 days after the effective date of this AD, whichever occurs later.
Model A319 airplanes, manufacturer serial numbers 4151, 4228, and 4319 (post-mod 28238, 28162, and 28342) | Before the accumulation of 2,500 total flight cycles since first flight of the airplane, or within 90 days after the effective date of this AD, whichever occurs later.

(h) Measurements and Corrective Actions

If, during any inspection required by paragraph (g) of this AD, the fastener is determined to be missing, within the applicable compliance time specified in table 1 to paragraphs (g) and (h) of this AD: Measure the hole dimensions of the five holes surrounding the missing fastener, and do all applicable related investigative and corrective actions, in accordance with the Accomplishment Instructions of Airbus Service Bulletin A320-53-1242, excluding Appendix 01, dated May 22, 2012, except where the service bulletin specifies to contact Airbus, before further flight, repair using a method approved by either the Manager, International Branch, ANM-116, Transport Airplane Directorate, FAA; or EASA (or its delegated agent). Do all applicable related investigative and corrective actions before further flight.

(i) Other FAA AD Provisions

The following provisions also apply to this AD:

(1) Alternative Methods of Compliance (AMOCs): The Manager, International Branch, ANM-116, FAA, has the authority to approve AMOCs for this AD, if requested using the procedures found in 14 CFR 39.19. In accordance with 14 CFR 39.19, send your request to your principal inspector or local Flight Standards District Office, as appropriate. If sending information directly to the International Branch, send it to ATTN: Sanjay Ralhan, Aerospace Engineer, International Branch, ANM-116, Transport Airplane Directorate, FAA, 1601 Lind Avenue SW., Renton, Washington 98057-3356; telephone (425) 227-1405; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(j) Related Information

(1) Refer to Mandatory Continuing Airworthiness Information EASA Airworthiness Directive 2012-0132, dated July 19, 2012; and Airbus Service Bulletin A320-53-1242, excluding Appendix 01, dated May 22, 2012; for related information.

(2) For service information identified in this AD, contact Airbus, Airworthiness Office—EAS, 1 Rond Point Maurice Bellonte, 31707 Blagnac Cedex, France; telephone +33 5 61 93 36 96; fax +33 5 61 93 44 51; email account.airworth-eas@airbus.com; Internet http://www.airbus.com. You may review copies of the referenced service information at the FAA, Transport Airplane Directorate, 1601 Lind Avenue SW., Renton, WA. For information on the availability of this material at the FAA, call 425-227-1221.

Issued in Renton, Washington, on February 25, 2013.
Ali Bahrami,
Manager, Transport Airplane Directorate, Aircraft Certification Service.

[FR Doc. 2013-04903 Filed 3-1-13; 8:45 am]

BILLING CODE 4910-13-P